DEPARTMENT OF ENERGY

Federal Energy Regulatory Commission

Combined Notice of Filings #1

Take notice that the Commission received the following electric corporate filings:

Docket Numbers: EC20-56-000.

Applicants: Imperial Valley Solar, LLC.

Description: Supplement to April 24, 2020 Application for Authorization Under Section 203 of the Federal Power Act, et al. of Imperial Valley Solar, LLC.

Filed Date: 5/7/20.

Accession Number: 20200507-5180.

Comments Due: 5 p.m. ET 5/18/20.

Docket Numbers: EC20-63-000.

Applicants: Crowned Ridge Wind, LLC, Crowned Ridge Wind II, LLC.

Description: Application for Authorization Under Section 203 of the Federal Power Act, et al. of Crowned Ridge Wind, LLC, et al.

Filed Date: 5/6/20.

Accession Number: 20200506-5247.

Comments Due: 5 p.m. ET 5/27/20.

Docket Numbers: EC20-64-000.

Applicants: Catalyst Old River Hydroelectric Limited Partnership, Brookfield Power US Holding America Co.

Description: Joint Application for Authorization Under Section 203 of the Federal Power Act, et al. of Catalyst Old River Hydroelectric Limited Partnership, et al.

Filed Date: 5/7/20.

Accession Number: 20200507-5200.

Comments Due: 5 p.m. ET 5/28/20.

Docket Numbers: EC20-65-000.

Applicants: Jersey Central Power & Light Co., Yards Creek Energy, LLC.

Description: Application for Authorization Under Section 203 of the Federal Power Act, et al. of Jersey Central Power & Light Company, et al.

Filed Date: 5/6/20.

Accession Number: 20200506-5257.

Comments Due: 5 p.m. ET 5/27/20.

Take notice that the Commission received the following exempt wholesale generator filings:.

Docket Numbers: EG20-152-000.

Applicants: Day County Wind I, LLC.

Description: Notice of Self-Certification of Exempt Wholesale Generator Status of Day County Wind I, LLC.

Filed Date: 5/7/20.

Accession Number: 20200507-5169.

Comments Due: 5 p.m. ET 5/28/20.

Docket Numbers: EG20-153-000.

Applicants: Baldwin Wind Energy, LLC.

Description: Notice of Self-Certification of Exempt Wholesale Generator Status of Baldwin Wind Energy, LLC.

Filed Date: 5/7/20.

Accession Number: 20200507-5171.

Comments Due: 5 p.m. ET 5/28/20.

Take notice that the Commission received the following electric rate filings:.

Docket Numbers: ER17-802-008.

Applicants: Exelon Generation Company, LLC.

Description: Report Filing: Refund Report &#8211; Informational Filing to be effective N/A.

Filed Date: 5/8/20.

Accession Number: 20200508-5113.

Comments Due: 5 p.m. ET 5/29/20.

Docket Numbers: ER20-1248-001.

Applicants: GenOn Energy Management, LLC.

Description: Tariff Amendment: Amendment to Market-Based Rate Tariff Revision Filing to be effective 3/13/2020.

Filed Date: 5/8/20.

Accession Number: 20200508-5238.

Comments Due: 5 p.m. ET 5/29/20.

Docket Numbers: ER20-1256-001.

Applicants: Shawville Power, LLC.

Description: Tariff Amendment: Amendment to Market-Based Rate Tariff Revision Filing to be effective 3/13/2020.

Filed Date: 5/8/20.

Accession Number: 20200508-5220.

Comments Due: 5 p.m. ET 5/29/20.

Docket Numbers: ER20-1383-001.

Applicants: PECO Energy Company, PJM Interconnection, L.L.C.

Description: Tariff Amendment: PECO submits Amendment to OATT Att. H-7A re: Depreciation and Amortization Rates to be effective 5/29/2020.

Filed Date: 5/8/20.

Accession Number: 20200508-5237.

Comments Due: 5 p.m. ET 5/29/20.

Docket Numbers: ER20-1783-000.

Applicants: PJM Interconnection, L.L.C., NextEra Energy Transmission MidAtlantic Indiana, Inc.

Description: § 205(d) Rate Filing: Revisions to Tariff for NextEra Energy Transmission MidAtlantic Indiana, Inc. to be effective 12/31/9998.

Filed Date: 5/7/20.

Accession Number: 20200507-5163.

Comments Due: 5 p.m. ET 5/28/20.

Docket Numbers: ER20-1784-000.

Applicants: PJM Interconnection, L.L.C., NextEra Energy Transmission MidAtlantic Indiana, Inc.

Description: § 205(d) Rate Filing: Revisions to CTOA for NextEra Energy Transmission MidAtlantic Indiana, Inc. to be effective 12/31/9998.

Filed Date: 5/7/20.

Accession Number: 20200507-5164.

Comments Due: 5 p.m. ET 5/28/20.

Docket Numbers: ER20-1786-000.

Applicants: Midcontinent Independent System Operator, Inc.

Description: § 205(d) Rate Filing: 2020-05-08_SA 3489 Duke-Speedway Solar GIA (J805) to be effective 4/24/2020.

Filed Date: 5/8/20.

Accession Number: 20200508-5092.

Comments Due: 5 p.m. ET 5/29/20.

Docket Numbers: ER20-1787-000.

Applicants: Southern California Edison Company.

Description: Tariff Cancellation: Resubmit Notices of Cancellation Ralph Laks GIA and Service Agreement Solar 66 to be effective 5/11/2020.

Filed Date: 5/8/20.

Accession Number: 20200508-5174.

Comments Due: 5 p.m. ET 5/29/20.

Docket Numbers: ER20-1788-000.

Applicants: Dominion Energy South Carolina, Inc.

Description: Initial rate filing: DESC—Georgia Power Affected System Agreement to be effective 7/8/2020.

Filed Date: 5/8/20.

Accession Number: 20200508-5183.

Comments Due: 5 p.m. ET 5/29/20.

Docket Numbers: ER20-1789-000.

Applicants: Arizona Public Service Company.

Description: § 205(d) Rate Filing: Service Agreement No. 380—sPower E&P Agreement to be effective 5/1/2020.

Filed Date: 5/8/20.

Accession Number: 20200508-5208.

Comments Due: 5 p.m. ET 5/29/20.

Docket Numbers: ER20-1790-000.

Applicants: Aurora Wind Project, LLC.

Description: Baseline eTariff Filing: Aurora Wind Project, LLC MBR eTariff Filing to be effective 7/8/2020.

Filed Date: 5/8/20.

Accession Number: 20200508-5216.

Comments Due: 5 p.m. ET 5/29/20.

Docket Numbers: ER20-1791-000.

Applicants: Jersey Central Power & Light Co.

Description: Notice of Cancellation of records applicable to Reactive Service charges, et al. of Jersey Central Power & Light Company.

Filed Date: 5/6/20.

Accession Number: 20200506-5263.

Comments Due: 5 p.m. ET 5/27/20

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2020.
Nathaniel J. Davis, Sr.,
Deputy Secretary.

[FR Doc. 2020-10334 Filed 5-13-20; 8:45 am]

BILLING CODE 6717-01-P